DEPARTMENT OF TRANSPORTATION

Office of the Secretary

Application of Hawaii Island Air, Inc. D/B/A Island Air for Certificate Authority

AGENCY: Department of Transportation.

ACTION: Notice of Order to Show Cause (Order 2006-1-20), Docket OST-2005-22001.

SUMMARY: The Department of Transportation is directing all interested persons to show cause why it should not issue an order finding Hawaii Island Air, Inc. d/b/a Island Air fit, willing, and able, and awarding it a certificate of public convenience and necessity to engage in interstate scheduled air transportation of persons, property and mail.

DATES: Persons wishing to file objections should do so no later than February 8, 2006.

ADDRESSES: Objections and answers to objections should be filed in Docket OST-2005-22001 and addressed to U.S. Department of Transportation, Docket Operations, (M-30, Room PL-401), 400 Seventh Street, SW., Washington, DC 20590, and should be served upon the parties listed in Attachment A to the order.

FOR FURTHER INFORMATION CONTACT: Vanessa R. Balgobin, Air Carrier Fitness Division (X-56, Room 6401), U.S. Department of Transportation, 400 Seventh Street, SW., Washington, DC 20590, (202) 366-9721.

Dated: January 25, 2006.
Michael W. Reynolds,
Acting Assistant Secretary for Aviation and International Affairs.

[FR Doc. E6-1321 Filed 1-31-06; 8:45 am]

BILLING CODE 4910-62-P